EQUAL EMPLOYMENT OPPORTUNITY COMMISSION

Agency Information Collection Activity: Comment Request; Generic Clearance for the Collection of Qualitative Feedback on Agency Service Delivery

AGENCY: Equal Employment Opportunity Commission.

ACTION: Notice of proposed collection; comment request.

SUMMARY: This notice announces the intention of the U.S. Equal Employment Opportunity Commission (EEOC) to request a three-year approval, under the Paperwork Reduction Act of 1995 (PRA), of a revision to the current Generic Clearance for the Collection of Qualitative Feedback on Agency Service Delivery that the Office of Management and Budget (OMB) previously approved. This collection is part of a Federal Government-wide effort to streamline the process to seek feedback from the public on service delivery.

DATES: Written comments on this notice must be submitted on or before January 19, 2021.

ADDRESSES: You may submit comments using one of the following three methods:

Federal eRulemaking Portal: http://www.regulations.gov. Follow the instructions on the website for submitting comments.

Mail: Comments may be submitted by mail to Bernadette B. Wilson, Executive Officer, Executive Secretariat, Equal Employment Opportunity Commission, 131 M Street NE, Washington, DC 20507.

Fax: Comments totaling six or fewer pages can be sent by facsimile (“fax”) machine to (202) 663-4114 (This is not a toll-free number.) Receipt of fax transmittals will not be acknowledged, except that the sender may request confirmation of receipt by calling the Executive Secretariat staff at (202) 663-4070 (voice) or (800) 669-6820 (TTY). (These are not toll-free telephone numbers.)

Instructions: All comments received must include the agency name and docket number. All comments received will be posted without change to http://www.regulations.gov, including any personal information provided. However, the EEOC reserves the right to refrain from posting libelous or otherwise inappropriate comments, including those that contain obscene, indecent, or profane language; that contain threats or defamatory statements; that contain hate speech directed at race, color, sex, national origin, age, religion, disability, or genetic information; or that promote or endorse services or products.

Although copies of comments received are usually also available for review at the Commission's library, given the EEOC's current 100% telework status due to the Coronavirus Disease 2019 (COVID-19) public health emergency, the Commission's library is closed until further notice. Once the Commission's library is re-opened, copies of comments received in response to the proposed rule will be made available for viewing by appointment only at 131 M Street NE, Suite 4NW08R, Washington, DC 20507, between the hours of 9:30 a.m. and 5:00 p.m.

FOR FURTHER INFORMATION CONTACT: For Office of Field Programs: Michelle Crew, michelle.crew@eeoc.gov, (216) 306-1130. For Office of Federal Operations: Patricia St. Clair, patricia.stclair@eeoc.gov, (202) 663-4922.

SUPPLEMENTARY INFORMATION:

Title: Generic Clearance for the Collection of Qualitative Feedback on Agency Service Delivery.

Abstract: The proposed information collection activity will garner qualitative customer and stakeholder feedback in an efficient, timely manner, in accordance with the government's commitment to improving service delivery. By qualitative feedback we mean information that provides useful insights on perceptions and opinions, but not statistical surveys that yield quantitative results that can be generalized to the population of study. This feedback will provide insights into customer or stakeholder perceptions, experiences, and expectations, provide an early warning of issues with service, or focus attention on areas where communication, training, or changes in operations might improve delivery of products or services. These collections will allow for ongoing, collaborative, and actionable communications between the Agency and its customers and stakeholders. It will also allow feedback to contribute directly to the improvement of program management.

The solicitation of feedback will target areas such as: Timeliness, appropriateness, accuracy of information, course materials, course instructor, courtesy, efficiency of service delivery, and resolution of issues with service delivery. Responses will be assessed to plan and inform efforts to improve or maintain the quality of service offered to the public. If this information is not collected, vital feedback from customers and stakeholders on the Agency's services will be unavailable.

The Agency will only submit a collection for approval under this generic clearance if it meets the following conditions:

• The collections are voluntary;

• The collections are low-burden for respondents (based on considerations of total burden hours, total number of respondents, or burden-hours per respondent) and are low-cost for both the respondents and the Federal Government;

• The collections are the only way to collect information; there are no alternative existing sources;

• The collections are noncontroversial and do not raise issues of concern to other Federal agencies;

• Any collection is targeted to the solicitation of opinions from respondents who have experience with the program or may have experience with the program;

• Personally identifiable information (PII) is collected only to the extent necessary and is not retained;

• Information gathered will be used only internally for general service improvement and program management purposes and is not intended for release outside of the agency;

• Information gathered will not be used for the purpose of substantially informing influential policy decisions; and

• Information gathered will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address: The target population to which generalizations will be made, the sampling frame, the sample design (including stratification and clustering), the precision requirements or power calculations that justify the proposed sample size, the expected response rate, methods for assessing potential nonresponse bias, the protocols for data collection, and any testing procedures that were or will be undertaken prior to fielding the study. Depending on the degree of influence the results are likely to have, such collections may still be eligible for submission for other generic mechanisms that are designed to yield quantitative results.

As a general matter, information collections will not result in any new system of records containing privacy information and will not ask questions of a sensitive nature, such as sexual behavior and attitudes, religious beliefs, and other matters that are commonly considered private.

Pursuant to the PRA and OMB regulation 5 CFR 1320.8(d)(1), the EEOC solicits public comment on its intent to seek a three-year approval of this revised collection: (1) Evaluate whether the proposed collection of information is necessary for the proper performance of the EEOC's functions, including whether the information will have practical utility; (2) Evaluate the accuracy of the EEOC's estimate of the burden of the proposed collection of information, including the validity of the methodology and assumptions used; (3) Enhance the quality, utility, and clarity of the information to be collected; and (4) Minimize the burden of the collection of information on those who are to respond, including the use of appropriate automated, electronic, mechanical, or other technological collection techniques or other forms of information technology, e.g., permitting electronic submission of responses.

In addition to clearance hours for the previously approved customer feedback forms, the EEOC is also requesting an additional 39,716 clearance hours. Most of these requested hours—39,116—are for a randomly-generated, pop-up form that will solicit feedback from a sample of visitors to the EEOC website on the contents and performance of the web pages. The 39,116 hour burden estimate is based on the number of web page views in a year. The remaining 600 hours represent a reserve to cover any additional feedback forms that may be developed over the next three years for new trainings offered by the EEOC. The EEOC anticipates any new potential feedback forms will be similar in length and content to existing feedback forms. The EEOC plans to seek clearance for the additional hours so the EEOC can use the existing clearance number if the need arises for additional training and feedback forms.

Type of survey | Respondent | Number of respondents | Number of responses/ respondent | Participation time | Response burden (in hours)
Questionnaire—FEPA Training Conference Feedback | State and local government employees | 550 | 1 | 2 minutes per response | 18
Questionnaire—Technical Assistance Program Feedback | Private employers, state and local government employees | 4,500 | 1 | 2 minutes per response | 150
Questionnaire—EXCEL Customer Feedback | Private employers, state and local government employees | 250 | 1 | 10 minutes per response | 42
Questionnaire—Respectful Workplace Training Feedback | Private employers, state and local government employees | 15,900 | 2 (survey delivered twice to same respondents) | 10 minutes per response | 5,300
Questionnaire—Federal Course Evaluation Form | Participants in federal courses and in customer specific trainings | 9,180 | 1 | 2 minutes per response | 306
Future Training Assessments | Training Center Attendees | 7,200 | 1 | 5 minutes per response | 600
EEOC website feedback forms | Individuals or Households | 1,173,472 | 1 | 2 minutes per response | 39,116

Overview of Information Collection

OMB Number: 3046-0048.

Type of Review: Revision of a currently approved collection.

Affected Public: Individuals and households; businesses and organizations; State, Local or Tribal Governments.

Average Expected Annual Number of Activities: 6 known, up to 2 more anticipated.

Respondents: 1,211,052.

Annual Responses: 1,226,952.

Frequency of Response: Twice per respondent for one activity, and once for all other activities.

Average Minutes per Response: 2.2.

Burden Hours: 45,532.

For the Commission.
Janet Dhillon,
Chair.

[FR Doc. 2020-25425 Filed 11-17-20; 8:45 am]

BILLING CODE 6570-01-P